DEPARTMENT OF JUSTICE

Notice of Lodging of Consent Decree Under the Clean Air Act

In accordance with Departmental policy, 28 CFR 50.7, notice is hereby given that on September 8, 2008, a proposed consent decree (“Consent Decree”) in United States v. St. Marys Cement Inc. (U.S.) and St. Barbara Cement Inc., Civil Action No. 3:08-CV-50199, was lodged with the United States District Court for the Northern District of Illinois, Western Division.

In this action, brought against St. Marys Cement Inc. (U.S.) and St. Barbara Cement Inc. (“collectively “Defendants”) pursuant to sections 113(b) and 167 of the Clean Air Act (“the Act”), 42 U.S.C. 7413(b) and 7477, the United States has sought injunctive relief and the assessment of civil penalties for violations of the Prevention of Significant Deterioration (“PSD”) provisions of the Act, 42 U.S.C. 7470-92, and the PSD regulations incorporated into the federally approved and enforceable Illinois State Implementation Plan (“the SIP”) at a Portland cement plant located in or near Dixon, Illinois (“Facility”). The United States' complaint alleges, among other things, that the Facility's prior owner and/or operator, CEMEX Central Plains Cement LLC (“CEMEX”), conducted a major modification of the Facility and that thereafter CEMEX and the Defendants, after they became the owner (St. Barbara Cement Inc.) and operator (St. Marys Cement Inc. (U.S.)) of the Facility, operated the Facility as modified without obtaining a PSD permit authorizing the major modification and without installing the best available technology to control emissions of nitrogen oxides (“NOX”), as required by the Act and the SIP.

The proposed consent decree would resolve the civil claims of the United States alleged in the complaint and in a Notice of Violation and Finding of Violation and a Notice of Violation issued by the U.S. Environmental Protection Agency, as well as any civil liability of CEMEX's successor for these same violations. The proposed consent decree would require, among other things, that the Defendants: Have installed emission controls (selective non-catalytic reduction) at three of the Facility's kilns and achieve specified NOX emission limits by April 30, 2009; permanently retire a fourth kiln; install NOX continuous emissions monitoring systems to measure NOX emissions at the Facility's kilns; apply for appropriate permits or permit modifications to incorporate various requirements of the consent decree; and pay a civil penalty to the United States in the amount of $800,000.00. If the Defendants elect to build a new kiln to replace the retired kiln, the proposed consent decree establishes specific limitations and conditions governing the use of any NOX emission credits from the shutdown of the kiln, including specific requirements that would apply to any new kiln.

The Department of Justice will receive, for a period of thirty (30) days from the date of this publication, comments relating to the consent decree. Comments should be addressed to the Assistant Attorney General, Environment and Natural Resources Division, and either e-mailed to pubcomment-ees@usdoj.gov or mailed to P.O. Box 7611, United States Department of Justice, Washington, DC 20044-7611, and should refer to United States v. St. Marys Cement Inc. and St. Barbara Cement Inc., D.J. Ref. 90-5-2-1-08782.

The consent decree may be examined at the Office of the United States Attorney, 308 West State Street, Suite 300, Rockford, Illinois 61101. During the public comment period, the consent decree may also be examined on the following Justice Department Web site: http://www.usdoj.gov/enrd/Consent_Decrees.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $12.00 (25 cents per page reproduction cost) payable to the U.S. Treasury or, if by e-mail or fax, forward a check in that amount to the Consent Decree Library at the stated address.

William D. Brighton,
Assistant Chief, Environmental Enforcement Section, Environment and Natural Resources Division.

[FR Doc. E8-21638 Filed 9-16-08; 8:45 am]

BILLING CODE 4410-15-P